DEPARTMENT OF AGRICULTURE

Submission for OMB Review; Comment Request

December 15, 2021.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by January 19, 2022 will be considered. Written comments and recommendations for the proposed information collection should be submitted within 30 days of the publication of this notice on the following website www.reginfo.gov/public/do/PRAMain. Find this information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Supplemental Nutrition Assistance Program Emergency Allotments (COVID-19).

OMB Control Number: 0584-0652.

Summary of Collection: The Families First Coronavirus Response Act of 2020 (Pub. L. 116-127), enacted March 18, 2020, includes a general provision that allows the Department of Agriculture to issue emergency allotments (EA) based on a public health emergency declaration by the Secretary of Health and Human Services under Section 319 of the Public Health Service Act related to an outbreak of COVID-19 when a State has also issued an emergency or disaster declaration.

Need and Use of the Information: The purpose for this collection is for FNS to implement administrative actions in response to the current economic crisis resulting from the pandemic. FNS distributed updated State guidance on April 1, 2021, outlining a new approach for States to calculate EA, which provides greater equity for households most in need. In addition to outlining a new EA minimum benefit policy, the updated guidance describes an EA phase-out process States may request and use when their State-level emergency declaration expiration date is coming up. The State agency process for requesting EA, as outlined in the April 2021 guidance, remains generally unchanged, though the State must now confirm that the State's emergency or disaster declaration remains active when requesting EA.

FNS reviews request for approval to provide EA to households to bring all households up to the maximum benefit allowable due to pandemic related economic conditions. Because the EA waiver increases the monthly benefit of participants above the amount originally anticipated for this fiscal year, the amount of benefits issued and redeemed are carefully tracked to ensure FNS does not exceed its appropriation. As such, it is necessary for FNS to collect information from State agencies operating EA on a more frequent basis than would be reported normally.

Description of Respondents: (53) State, Local or Tribal Government.

Number of Respondents: 53.

Frequency of Responses: Reporting: Recordkeeping Once, On occasion.

Total Burden Hours: 763.

Ruth Brown,
Departmental Information Collection Clearance Officer.

[FR Doc. 2021-27450 Filed 12-17-21; 8:45 am]

BILLING CODE 3410-30-P